DEPARTMENT OF AGRICULTURE

Food and Nutrition Service

7 CFR Parts 247, 250, 251, 253, and 254

[FNS-2023-0026]

RIN 0584-AE92

Food Distribution Programs: Improving Access and Parity

AGENCY: Food and Nutrition Service (FNS), U.S. Department of Agriculture (USDA).

ACTION: Final rule; correction.

SUMMARY: The Food and Nutrition Service is correcting a final rule that appeared in the Federal Register on October 31, 2024. The document makes access and parity improvements in USDA's food distribution programs to support access for eligible populations and streamline requirements for program operators.

DATES: Effective December 30. 2024.

FOR FURTHER INFORMATION CONTACT: Gregory Walton, Program Analyst, Food Distribution Policy Branch, Supplemental Nutrition and Safety Programs, U.S. Department of Agriculture's Food and Nutrition Service, 1320 Braddock Place, 3rd Floor, Alexandria, Virginia 22314 at 703-305-2746 or Gregory.Walton@usda.gov.

SUPPLEMENTARY INFORMATION: In FR Doc. 2024-24966 appearing on page 87228 in the Federal Register of Thursday, October 31, 2024, the following corrections are made:

1. § 247.5 [Corrected]

On page 87244, in the third column, in amendatory instruction 4, correct paragraphs (b)(15) through (17) to read as follows:

(b) * * *

(15) Ensuring that program participation does not exceed the State agency's caseload allocation on an average monthly basis;

(16) Making publicly available a list of all CSFP local agencies on a publicly available internet web page. The State agency must post the name, address, and telephone number for each local agency. The list must be updated, at a minimum, on an annual basis; and

(17) Posting the State Plan that is currently in use on a publicly available internet web page.

* * * * *

2. § 247.9 [Corrected]

i. On page 87245, in the first and second columns, in amendatory instruction 9 correct paragraphs (b)(1) and (d)(3)(xxiv) to read as follows:

(b) * * *

(1) The State agency may accept as income-eligible for CSFP benefits any applicant that documents that they are certified as fully eligible for the following Federal programs: the Supplemental Nutrition Assistance Program, the Food Distribution Program on Indian Reservations, Supplemental Security Income (SSI), the Low Income Subsidy Program, or the Medicare Savings Programs.

* * * * *

(d) * * *

(3) * * *

(xxix) Payments to the Assiniboine Tribe of the Fort Belknap Indian community and the Assiniboine Tribe of the Fort Peck Indian Reservation (Montana) (Pub. L. 98-124, sec. 5);

* * * * *

3. § 251.4 [Corrected]

On page 87250, in the first column, instruction 26 for § 251.4, correct instruction 26.f. to read as follows:

f. Removing the term “donated commodities” wherever it appears in paragraph (g) and adding in its place the term “USDA Foods”;

4. § 253.2 [Corrected]

On page 87254, in the first and second columns, in amendatory 36, correct the definitions of “Indian Tribal Organization (ITO) and “State agency” to read as follows:

* * * * *

Indian Tribal Organization (ITO) means:

(1) The recognized governing body of any Indian tribe on a reservation; or

(2) The tribally recognized intertribal organization which the recognized governing bodies of two or more Indian tribes on a reservation authorize to operate SNAP or a Food Distribution Program on their behalf.

* * * * *

State agency means:

(1) The agency of State government, including the local offices thereof, which enters into an agreement with FNS for the distribution of USDA Foods on all or part of an Indian reservation, and

(2) The ITO of any Indian tribe, determined by the Department to be capable of effectively administering a Food Distribution Program, which enters into an agreement with FNS for the distribution of USDA Foods on all or part of an Indian reservation.

(3) State agencies are also referred to as FDPIR administering agencies.

5. § 253.5 [Corrected]

On page 87255, in the first column, in amendment 39, correct the section heading to read as follows:

§ 253.5 State agency requirements.

* * * * *

6. § 253.6 [Corrected]

i. On page 87255, in the second column, in amendment 40, correct paragraphs (a)(2), (d)(3)(vii); and (e)(1) to read as follows:

* * * * *

(a) * * *

(2) Nonhousehold members. The following individuals residing with a household shall not be considered household members in determining the household's eligibility. Nonhousehold members specified in paragraphs (a)(2) (i) and (iv) who are otherwise eligible may participate in the Program as separate households.

* * * * *

(d) * * *

(3) * * *

(vii) The earned income (as defined in paragraph (d)(2)(i) of this section) of children who are members of the household, who are students at least half time and who have not attained their eighteenth birthday. * * *

* * * * *

(e) Income deductions—(1) Earned income deduction. Households with earned income, as defined in paragraph (d)(2)(i) of this section, shall be allowed a deduction of twenty percent of their gross earned income. Earned income excluded under paragraph (d)(3) of this section shall not be considered earned income for the purpose of computing this deduction.

* * * * *

Tameka Owens,
Acting Administrator and Assistant Administrator, Food and Nutrition Service.

[FR Doc. 2024-30575 Filed 12-20-24; 8:45 am]

BILLING CODE 3410-30-P